DEPARTMENT OF JUSTICE

Antitrust Division

Notice Pursuant to the National Cooperative Research and Production Act of 1993—Enterprise Computer Telephony Forum

Notice is hereby given that, on October 10, 2000, pursuant to section 6(a) of the National Cooperative Research and Production Act of 1993, 15 U.S.C. 4301 et seq. (“the Act”), Enterprise Computer Telephone Forum (“ECTF”) has filed written notifications simultaneously with the Attorney General and the Federal Trade Commission disclosing changes in its membership status. The notifications were filed for the purpose of extending the Act's provisions limiting the recovery of antitrust plaintiffs to actual damages under specified circumstances. Specifically, StarGen, Inc., Marlborough, MA; ESI, Plano, TX; Karel Elektronik S.A., Ankara, TURKEY; Integrated Device Technology, Inc., Santa Clara, CA; Call Sciences, Inc., Edison, NJ; ADICTI Corp., Taichung, TAIWAN; and Inovax Engenharia de Sistemas Ltd., Rio de Janeiro, BRAZIL have been added as parties to this venture. Also, StarBridge Technologies, Inc., Marlborough, MA has been dropped as a party to this venture.

No other changes have been made in either the membership or planned activity of the group research project. Membership in this group research project remains open, and ECTF intends to file additional written notifications disclosing all changes in membership.

On February 20, 1996, ECTF filed its original notification pursuant to section 6(a) of the Act. The Department of Justice published a notice in the Federal Register pursuant to section 6(b) of the Act on May 13, 1996, (61 FR 22074).

The last notification was filed with the Department on August 2, 2000. A notice was published in the Federal Register pursuant to section 6(b) of the Act on October 26, 2000 (65 FR 64236).

Constance K. Robinson,
Director of Operations, Antitrust Division.

[FR Doc. 01-932 Filed 1-10-01; 8:45 am]

BILLING CODE 4410-11-M